DEPARTMENT OF THE INTERIOR

Fish and Wildlife Service

[Docket No. FWS-HQ-IA-2021-0095; FXIA16710900000-212-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by November 18, 2021.

ADDRESSES: Obtaining Documents: The applications, application supporting materials, and any comments and other materials that we receive will be available for public inspection at http://www.regulations.gov in Docket No. FWS-HQ-IA-2021-0095.

Submitting Comments: When submitting comments, please specify the name of the applicant and the permit number at the beginning of your comment. You may submit comments by one of the following methods:

• Internet: http://www.regulations.gov. Search for and submit comments on Docket No. FWS-HQ-IA-2021-0095.

• U.S. mail: Public Comments Processing, Attn: Docket No. FWS-HQ-IA-2021-0095; U.S. Fish and Wildlife Service Headquarters, MS: PRB/3W; 5275 Leesburg Pike; Falls Church, VA 22041-3803.

For more information, see Public Comment Procedures under SUPPLEMENTARY INFORMATION.

FOR FURTHER INFORMATION CONTACT: Brenda Tapia, by phone at 703-358-2185, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17.

III. Permit Applications

We invite comments on the following applications.

Endangered Species

Applicant: American Museum of Natural History, New York, NY; Permit No. 51221D

The applicant requests a permit to import biological samples derived from wild golden-shouldered parrots (Psephotus chrysopterygius), taken in Queensland, Australia, for the purpose of scientific research. This notification is for a single import.

Applicant: Associated Humane Societies, dba Popcorn Park Animal Refuge, Forked River, NJ; Permit No. 83167D

The applicant requests a permit to import one male and one female tiger (Panthera tigris) of unknown origin, from the Cherry Brook Zoo, St. John, New Brunswick, Canada, for the purpose of enhancing the propagation or survival of the species. This notification is for a single import.

Applicant: Arizona State University, Tempe, AZ; Permit No. 094332

The applicant requests a permit to import biological samples from wild, captive-held and captive-born chimpanzees (Pan troglodytes), bonobos (Pan paniscus), gorillas (Gorilla gorilla), and orangutans (Pongo pygmaeus) from various countries for the purpose of scientific research. This notification covers activities to be conducted by the applicant over a 5-year period.

Applicant: Wade Harrell, Whooping Crane Recovery Plan Coordinator, U.S. Fish and Wildlife Service, Region 2, Austwell, TX; Permit No. PER0016823

The applicant requests renewal of a permit to import captive-bred/captive- hatched and wild live specimens, captive-bred/wild-collected viable eggs, biological samples, and salvaged materials from captive-bred/wild specimens of whooping cranes (Grus Americana) from Canada, for completion of identified task and objectives mandated under the Service Whooping Crane Recovery Plan. Salvage materials may include, but are not limited to, whole or partial specimens, feathers, eggs, and eggshell fragments. This notification covers activities to be conducted by the applicant over a 5-year period.

Applicant: Smithsonian National Zoo and Conservation Biology Institute, Washington, DC; Permit No. PER0017129

The applicant requests a permit to import two female captive-bred Asian elephants (Elephas maximus) from the Rotterdam Zoo, Rotterdam, Netherlands, for the purpose of enhancing the propagation or survival of the species. This notification is for a single import.

Applicant: Wildlife World Zoo, Inc., Litchfield Park, AZ; Permit No. 54998D

The applicant requests a captive-bred wildlife registration under 50 CFR 17.21(g) for the following species, to enhance the propagation or survival of the species. This notification covers activities to be conducted by the applicant over a 5-year period.

Common name | Scientific name
African penguin | Spheniscus demersus
Southern white rhinoceros | Ceratotherium simum simum
Saltwater crocodile | Crocodylus porosus
Madagascar radiated tortoise | Geochelone radiata
Galapagos tortoise | Geochelone nigra
Apaporis river caiman | Caiman crocodilus apaporiensis
Brown caiman | Caiman crocodilus fuscus
Common caiman | Caiman crocodilus crocodilus
African dwarf crocodile | Osteolaemus tetraspis tetraspis
Congo dwarf crocodile | Osteolaemus tetraspis osborni
Nile crocodile | Crocodylus niloticus
Lar white-handed gibbon | Hylobates lar
Pileated gibbon | Hylobates pileatus
Siamang | Symphalangus syndactylus
Cotton-top tamarin | Saguinus oedipus
Brush-tailed rat-kangaroo | Bettongia penicillata
Cheetah | Acinonyx jubatus
African lion | Panthera leo leo
African lion | Panthera leo melanochaita
Tiger | Panthera tigris
Andean condor | Vultur gryphus
White-naped crane | Grus vipio
Leopard | Panthera pardus
Ring-tailed lemur | Lemur catta
Black-and-white ruffed lemur | Varecia variegata
Red ruffed lemur | Varecia rubra
Arabian oryx | Oryx leucoryx
Red lechwe | Kobus leche
South American tapir | Tapirus terrestris
Scarlet macaw | Ara macao cyanoptera
Blue-throated macaw | Ara glaucogularis
Military macaw | Ara militaris
Clouded leopard | Neofelis nebulosa

Applicant: Point Defiance Zoo and Aquarium, Tacoma, WA; Permit No. 77904D

The applicant requests a captive-bred wildlife registration under 50 CFR 17.21(g) for the following species to enhance the propagation or survival of the species. This notification covers activities to be conducted by the applicant over a 5-year period.

Common name | Scientific name
Radiated tortoise | Astrochelys radiata
Parma wallaby | Macropus parma
Asian elephant | Elephas maximus
Black-and-white ruffed lemur | Varecia variegata
Ring-tailed lemur | Lemur catta
Northern white-cheeked gibbon | Nomascus leucogenys
Siamang | Symphalangus syndactylus
Clouded leopard | Neofelis nebulosa
Sumatran tiger | Panthera tigris sumatrae
Malayan tapir | Tapirus indicus
Lowland anoa | Bubalus depressicornis

Applicant: Caldwell Zoo, Tyler, TX; Permit No. 71365D

The applicant requests a captive-bred wildlife registration under 50 CFR 17.21(g) for the following species to enhance the propagation or survival of the species. This notification covers activities to be conducted by the applicant over a 5-year period.

Common name | Scientific name
Cheetah | Acinonyx jubatus
Military macaw | Ara militaris
Black rhinoceros | Diceros bicornis
Grevy's zebra | Equus grevyi
Northern bald ibis | Geronticus eremita
Red-ruffed lemur | Varecia rubra
Ring-tailed lemur | Lemur catta
African lion | Panthera leo melanochaita
Tiger | Panthera tigris
Cotton-top tamarin | Saguinus oedipus
African penguin | Spheniscus demersus

Applicant: Henry Vilas Zoo, Madison, WI; Permit No. 77262D

The applicant requests a captive-bred wildlife registration under 50 CFR 17.21(g) for the following species to enhance the propagation or survival of the species. This notification covers activities to be conducted by the applicant over a 5-year period.

Common name | Scientific name
Bactrian camel | Camelus bactrianus.
African wild ass | Equus africanus.
Lar gibbon | Hylobates lar.
Ring-tailed lemur | Lemur catta.
Black-and-white ruffed lemur | Varecia variegata.
Golden lion tamarin | Leontopithecus rosalia.
African lion | Panthera leo melanochaita.
Siberian tiger | Panthera tigris altaica.
Bornean orangutan | Pongo pygmaeus pygmaeus.
African penguin | Spheniscus demersus.
Southern white rhinoceros | Ceratotherium simum simum.

Applicant: Venado Ventures, LLC, Columbus, TX; Permit No. 79076D

The applicant requests a captive-bred wildlife registration under 50 CFR 17.21(g) for red lechwe (Kobus leche), to enhance the propagation or survival of the species. This notification covers activities to be conducted by the applicant over a 5-year period.

Applicant: Honolulu Zoo, Honolulu, HI; Permit No. 77784D

The applicant requests a captive-bred wildlife registration under 50 CFR 17.21(g) for the following species to enhance the propagation or survival of the species. This notification covers activities to be conducted by the applicant over a 5-year period.

Common name | Scientific name
Cheetah | Acinonyx jubatus.
Black rhinoceros | Diceros bicornis.
Ring-tailed lemur | Lemur catta.
African lion | Panthera leo melanochaita.
Tiger | Panthera tigris.
African penguin | Spheniscus demersus.
Japanese giant salamander | Andrias japonicus.
Radiated tortoise | Astrochelys radiata.
Galapagos tortoise | Geochelone nigra.
Komodo Island monitor | Varanus komodoensis.
Lar gibbon | Hylobates lar.
Siamang | Symphalangus syndactylus.
Chimpanzee | Pan troglodytes.
Orangutan | Pongo pygmaeus.
African wild dog | Lycaon pictus.
Gavial | Gavialis gangeticus.
Asian Elephant | Elephas maximus.

Applicant: Venado Ventures, LLC, Columbus, TX; Permit No. 79085D

The applicant requests a permit authorizing the culling of excess red lechwe (Kobus leche) from the captive herd maintained at their facility, to enhance the species' propagation and survival. This notification covers activities to be conducted by the applicant over a 5-year period.

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Brenda Tapia,
Program Analyst/Data Administrator Branch of Permits, Division of Management Authority.

[FR Doc. 2021-22702 Filed 10-18-21; 8:45 am]

BILLING CODE 4333-15-P